DEPARTMENT OF HEALTH AND HUMAN SERVICES

Administration for Children and Families

Statement of Organization, Functions, and Delegations of Authority: Office of the Deputy Assistant Secretary for Administration; Office of the Assistant Secretary

AGENCY: Administration for Children and Families, HHS.

ACTION: Notice.

SUMMARY: Statement of Organizations, Functions, and Delegations of Authority. The Administration for Children and Families (ACF) has reorganized the Office of the Deputy Assistant Secretary for Administration (ODASA). This reorganization moves the Office of Information Services from ODASA and establishes it as the new Office of the Chief Information Officer, which reports directly to the Assistant Secretary for Children and Families.

FOR FURTHER INFORMATION CONTACT: Lila Lee, Office of Administration, Chief of Staff, 330 C Street SW., Washington, DC 20201, (202) 401-5329.

SUPPLEMENTARY INFORMATION: Part K of the Statement of Organization, Functions, and Delegations of Authority of the Department of Health and Human Services (HHS), Administration for Children and Families (ACF) is being amended at Chapter K, Administration for Children and Families, as last amended at 81 FR 7346-7351, February 11, 2016, Chapter KP, Office of the Deputy Assistant Secretary for Administration (ODASA), as last amended at 75 FR 42760-42762, July 22, 2010 and most recently at 77 FR 67653-67655, November 13, 2012, as follows:

I. Under Chapter K, Administration for Children and Families, delete Section K.10, in in its entirety and replace with the following:

K.10 Organization. The Administration for Children and Families (ACF) is a principal operating division of the Department of Health and Human Services (HHS). The Administration is headed by the Assistant Secretary for Children and Families, who reports directly to the Secretary. The Assistant Secretary also serves as the Director of Child Support Enforcement. In addition to the Assistant Secretary, the Administration consists of the Principal Deputy Assistant Secretary, the Chief of Staff, the Deputy Assistant Secretary for Administration, the Deputy Assistant Secretary for Policy, the Deputy Assistant Secretary for Early Childhood Development, the Deputy Assistant Secretary for External Affairs, and Staff and Program Offices. ACF is organized as follows:

Office of the Assistant Secretary for Children and Families (KA)

Administration on Children, Youth and Families (KB)

Administration for Native Americans (KE)

Office of Child Support Enforcement (KF)

Office of Community Services (KG)

Office of Family Assistance (KH)

Office of Regional Operations (KJ)

Office of Planning, Research and Evaluation (KM)

Office of Communications (KN)

Office of the Deputy Assistant Secretary for Administration (KP)

Office of the Chief Information Officer (KQ)

Office of Refugee Resettlement (KR)

Office of Legislative Affairs and Budget (KT)

Office of Head Start (KU)

Office of Child Care (KV)

Office of Human Services Emergency Preparedness and Response (KW)

II. Under Chapter KQ, Create the Office of the Chief Information Officer:

KQ.00 MISSION. The mission of the Office of the Chief Information Officer (OCIO) is to obtain, procure, or develop cost effective and efficient information technology (IT) solutions that enable ACF's staff and grantees to successfully fulfill programmatic missions that result in the realization of the ACF vision. The OCIO implements IT strategies, policies, and governance frameworks to improve the efficiency and performance of ACF's IT systems that support ACF business processes in a manner that balances risk and cost with required outcomes, while ensuring compliance with all federal statutes and regulations. OCIO has ACF-wide responsibility for the direction and development of ACF's IT acquisition strategy, planning analysis and approval, management of IT investments both pre- and post-award, and leadership of key technology initiatives. The OCIO provides oversight and guidance on the use of business process reengineering, performance measurement, and continuous process improvement in the development, operation, and application of information systems and infrastructure. The OCIO manages cross-organizational stakeholder relations to maintain a flexible and adaptive IT posture that supports a resilient risk management approach to IT security and privacy. The OCIO creates policies to provide improved management of information resources and technology to more efficiently and effectively service ACF's internal and external clients and ACF employees. The OCIO will identify the appropriate continuing education for staff in the domain of records management, IT security and privacy, and incident response protocols.

KQ.10 ORGANIZATION. The OCIO is headed by the ACF Chief Information Officer (CIO) who also serves as ACF's Principal Information Resource Management Official, and consists of:

Office of the Director (KQ)

Division of IT Acquisition and Vendor Management (KQ1)

Division of Strategy, Policy, and Governance (KQ2)

Division of Security, Privacy, and Risk Management (KQ3)

Division of Infrastructure, Data and Web Services (KQ4)

KQ.20 FUNCTIONS. The Office of the Director supports the Assistant Secretary for Children and Families in providing centralized IT policy, procedures, standards, and guidelines. OCIO's responsibilities include strategy, policy, and IT governance, including performance measurement and innovation; security, privacy, and risk management, including business continuity, standardization and oversight of business processes, external compliance, and security strategy and management; financial and vendor management and IT acquisition oversight, including acquisition strategies, technological approaches, performance measurement, vendor selection, cost estimating and optimization; service planning and architecture, including quality management and enterprise architecture; program and project management; portfolio management, applications management, development, and maintenance; IT infrastructure and operations; and data services, big data analytics, and business intelligence.

A. The Division of IT Acquisition and Vendor Management provides financial and vendor management and IT acquisition oversight, including acquisition strategies, technological approaches, performance measurement, vendor selection, cost estimating and optimization; and provides procurement support and post-award oversight.

B. The Division of Strategy, Policy, and Governance responsibilities include strategy, policy, and IT governance, including performance measurement and innovation. Provides governance and oversight of centralized enterprise-wide IT functions, including enterprise architecture, creation and maintenance of the technology roadmap.

C. The Division of Security, Privacy, and Risk Management provides security, privacy, and risk management, including business continuity, standardization and oversight of business processes, external compliance, and security strategy and management. The OCIO will identify the appropriate continuing education for staff in the domain of records management, IT security and privacy, and incident response protocols.

D. The Division of Infrastructure, Data and Web Services provides service planning and architecture, program and project management, portfolio management, applications management, development and maintenance, and IT infrastructure and operations, including data services, big data analytics, and business intelligence.

III. Under KP, Office of the Deputy Assistant Secretary for Administration, delete KP.00 Mission in its entirety and replace with:

KP.00 MISSION. The Deputy Assistant Secretary for Administration serves as principal advisor to the Assistant Secretary for Children and Families on all aspects of personnel administration and management; financial management activities; grants policy and overseeing the issuance of grants; acquisition advisory services; the ethics program; staff development and training activities; organizational development and organizational analysis; administrative services; and facilities management. The Deputy Assistant Secretary for Administration oversees the Diversity Management and Equal Employment Opportunity program and all administrative special initiative activities for ACF.

IV. Under Chapter KP, Office of the Deputy Assistant Secretary for Administration, delete KP.10 Organization in its entirety and replace with:

KP.10 ORGANIZATION. The Office of the Deputy Assistant Secretary for Administration is headed by the Deputy Assistant Secretary who reports to the Assistant Secretary for Children and Families. The Office is organized as follows:

Immediate Office of the Deputy Assistant Secretary for Administration (KPA)

Office of Financial Services (KPC)

Office of Workforce Planning and Development (KPD)

Office of Grants Management (KPG)

Grants Management Regional Units (KPGDI-X)

Office of Diversity Management and Equal Employment Opportunity (KPH)

V. Under Chapter KP, Office of the Deputy Assistant Secretary for Administration, Delete KP.20 Functions, Paragraph B, Office of Information Systems, in its entirety.

VI. Under Chapter KN, Office of Communications, delete KN.20, Functions, Paragraph C, in its entirety and replace with the following:

Division of Digital Information is responsible for the content of ACF's public-facing digital presence. It also coordinates printing services for ACF. The division conducts preparation and clearance of ACF communications associated with web content, audiovisual products, digital publications and graphic designs, but does not include planning, budgeting, and oversight of the Web site maintenance and support contract. It provides guidance and support to program offices related to web content, social media, print publications, audio-visual materials, and digital information and communication activities.

VII. Delegation of Authority. Pending further redelegation, directives, or orders made by the Assistant Secretary for Children and Families or Deputy Assistant Secretary for Administration, all delegations and redelegations of authority made to officials and employees of affected organizational components will continue in them or their successors pending further redelegations, provided they are consistent with this reorganization.

VIII. Funds, Personnel, and Equipment. Transfer of organizations and functions affected by this reorganization shall be accompanied in each instance by direct and support funds, positions, personnel, records, equipment, supplies, and other resources.

Dated: July 21, 2016.
Mark H. Greenberg,
Acting Assistant Secretary for Children and Families.

[FR Doc. 2016-17737 Filed 7-26-16; 8:45 am]

BILLING CODE 4184-01-P